ENVIRONMENTAL PROTECTION AGENCY

40 CFR Parts 271 and 272

[EPA-R08-RCRA-2024-0408; FRL-12226-03-R8]

Utah: Final Authorization of State Hazardous Waste Management Program Revisions and Incorporation by Reference; Withdrawal of Direct Final Rule

AGENCY: Environmental Protection Agency (EPA).

ACTION: Withdrawal of direct final rule.

SUMMARY: Due to the receipt of adverse comments, the Environmental Protection Agency (EPA) is withdrawing the direct final rule “Utah: Final Authorization of State Hazardous Waste Management Program Revisions and Incorporation by Reference,” published on December 23, 2024.

DATES: Effective February 20, 2025, the EPA withdraws the direct final rule published at 89 FR 104435, on December 23, 2024.

FOR FURTHER INFORMATION CONTACT: Moye Lin, Land, Chemicals and Redevelopment Division, EPA Region 8, 1595 Wynkoop Street, Denver, Colorado 80202-1129; telephone number: (303) 312-6667, email address: lin.moye@epa.gov.

SUPPLEMENTARY INFORMATION: On December 23, 2024, the EPA published a direct final rule (89 FR 104435). We stated in that direct final rule that if we received adverse comments during the comment period, the direct final rule would not take effect, and we would publish a timely withdrawal in the Federal Register.

The EPA is withdrawing the direct final rule “Utah: Final Authorization of State Hazardous Waste Management Program Revisions and Incorporation by Reference,” published on December 23, 2024, at 89 FR 104435, which intended to revise the codification of Utah's authorized hazardous waste program incorporated by reference at 40 CFR 272.2251. The EPA stated in the direct final rule that if the EPA received comments that opposed this action, the EPA would publish a timely notice of withdrawal in the Federal Register. Since the EPA did receive adverse comments, the EPA is withdrawing the direct final rule. The EPA will address all comments in a subsequent final rule based on the proposed rule previously published on December 23, 2024, at 89 FR 104486. The EPA will not provide for additional public comment during the final rule action.

List of Subjects

40 CFR Part 271

Environmental protection, Administrative practice and procedure, Confidential business information, Hazardous waste, Hazardous waste transportation, Indian lands, Intergovernmental relations, Penalties, Reporting and recordkeeping requirements.

40 CFR Part 272

Environmental protection, Hazardous materials transportation, Hazardous waste, Incorporation by reference, Intergovernmental relations, Water pollution control, Water supply.

Dated: February 12, 2025.
Mark A. Smith,
Acting Regional Administrator, Region 8.

Accordingly, as of February 20, 2025, the EPA withdraws the direct final rule amending 40 CFR parts 271 and 272, which published at 89 FR 104435, on December 23, 2024.

[FR Doc. 2025-02908 Filed 2-19-25; 8:45 am]

BILLING CODE 6560-50-P